DEPARTMENT OF COMMERCE

Economic Development Administration

Notice of Petitions by Firms tor Determination of Eligibility to Apply For Trade Adjustment Assistance

AGENCY: Economic Development Administration, Department of Commerce.

ACTION: Notice and Opportunity for Public Comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance
[12/29/2011 through 02/21/2012]
Firm name | Address | Date accepted for investigation | Products
Cuisine Holdings Unlimited, LLC. | 1997 Surgi Dr., Mandeville, LA 70448 | 12/29/2011 | The firm manufactures food for human consumption.
Custom Service Printer, lnc. | 916 E. Keating Avenue, Muskegon, MI 49442 | 2/8/2012 | The firm manufactures printed products and provides design/mailing services.
Peterson Jig and Fixture Company, Inc. | 301 Rockford Park Drive, Rockford, MI 49341 | 2/16/2012 | The firm manufactures inspection jigs and fixtures.
Distinctive Foods, LLC. | 654 South Wheeling Road, Wheeling, IL 60090 | 2/16/2012 | The firm manufactures high quality baked goods including flatbread crackers, brownies, pretzels, and other baked goods.
Lyle Industries, Inc. | 4144 Lyle Road, Beaverton, MI 48612 | 2/16/2012 | The firm manufactures thermoforming machines for processing plastic or rubber.
Oakworks, Inc. | 923 E. Wellspring Road, New Freedom, PA 17349 | 2/21/2012 | The firm manufactures massage, spa, and medical tables, chairs and accessories.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: February 21, 2012.
Miriam Kearse,
Eligibility Certifier.

[FR Doc. 2012-4626 Filed 2-27-12; 8:45 am]

BILLING CODE 3510-WH-P